NATIONAL SCIENCE FOUNDATION

45 CFR Part 670

Conservation of Antarctic Animals and Plants

AGENCY: National Science Foundation.

ACTION: Final rule.

SUMMARY: The National Science Foundation (NSF) is amending its regulations to designate two additional Antarctic Specially Protected Areas (ASPAs) and to correct some typographical errors. These regulations, pursuant to the Antarctic Conservation Act of 1978, as amended, are being revised to reflect recommendations adopted by the Antarctic Treaty parties at the 15th and 21st Antarctic Treaty Consultative Meeting.

DATES: Effective September 7, 2001.

FOR FURTHER INFORMATION CONTACT: Anita Eisenstadt, Office of the General Counsel, at 703-292-8060, National Science Foundation, 4201 Wilson Boulevard, Room 1265, Arlington, Virginia 22230.

SUPPLEMENTARY INFORMATION: The Antarctic Conservation Act of 1978, as amended, (“ACA”) (16 U.S.C. 2401 et seq.) implements the Protocol on Environmental Protection to the Antarctic Treaty (“the Protocol”). Annex II of the Protocol contains provisions for conservation of native Antarctic plants and animals. Annex V contains provisions for the protection of specially designated areas. Section 6 of the ACA, (16 U.S.C. 2405), as amended, directs the Director of the National Science Foundation to issue such regulations as are necessary and appropriate to implement Annexes II and V to the Protocol.

The Antarctic Treaty Parties periodically adopt measures to establish additional specially protected areas. At the 15th Antarctic Treaty Consultative Meeting (ATCM) held in Rio de Janeiro in 1987, the Parties adopted Recommendation XIV-5 that added as a specially protected area the Summit of Mt. Melbourne, North Victoria Land. This site was previously included in the list of specially protected areas in 45 CFR part 670. However, in the 1998 amendments to 45 CFR part 670 [63 FR 50164 (September 21, 1998)], the site was inadvertently omitted from the list. At the 21st ATCM in Christchurch, New Zealand in 1997, the Parties adopted Measure 3 (1997) that added as a specially protected area Botany Bay, Cape Geology, Victoria Land. The rule is being revised to add these two specially protected areas. No public comment is needed because the addition of these two sites merely implements measures adopted at the ATCM.

Finally, these amendments correct typographical errors in the names of several species designated as native birds in § 670.20, and one species designated as a specially protected species in § 670.25.

Determinations

NSF has determined, under the criteria set forth in Executive Order 12866, that this rule is not a significant regulatory action requiring review by the Office of Management and Budget. This rule involves a foreign affairs function of the United States and is, therefore, exempt from the notice requirements of section 553 of the Administrative Procedures Act and from regulatory flexibility analysis requirements of the Regulatory Flexibility Act, 5 U.S.C. 601-612. Although this rule is exempt from the Regulatory Flexibility Act, it has nonetheless been determined that this rule will not have a significant impact on a substantial number of small businesses. For purposes of the Paperwork Reduction Act (44 U.S.C. 3501 et seq.), these amendments to the existing regulations do not change the collection of information requirements contained in NSF's existing regulations, which have already have been approved by the Office of Management and Budget (OMB No. 3145-0034). Finally, NSF has reviewed this rule in light of section 2 of Executive Order 12778 and certifies that this rule meets the applicable standards provided in sections 2(a) and 2(b) of that order.

List of Subjects in 45 CFR Part 670

Administrative practice and procedure, Antarctica, Exports, Imports, Plants, Reporting and recordkeeping requirements, Wildlife.

Dated: August 29, 2001.
Lawrence Rudolph,
General Counsel, National Science Foundation.

Pursuant to the authority granted by 16 U.S.C. 2405(a)(1), NSF hereby amends 45 CFR part 670 as set forth below:

PART 670—[AMENDED]

1. The authority citation for Part 670 continues to read as follows:

Authority: 16 U.S.C. 2405, as amended.

2. Section 670.20 is revised to read as follows:

§ 670.20 Designation of native birds.

The following are designated native birds:

Albatross

Black-browed—Diomedea melanophris.

Gray-headed—Diomedea chrysostoma.

Light-mantled sooty—Phoebetria palpebrata.

Wandering—Diomedea exulans.

Fulmar

Northern Giant—Macronectes halli.

Southern—Fulmarus glacialoides.

Southern Giant—Macronectes giganteus.

Gull

Southern Black-backed—Larus dominicanus.

Jaeger

Parasitic—Stercorarius parasiticus.

Pomarine—Stercorarius pomarinsus

Penguin

Adelie—Pygoscelis adeliae.

Chinstrap—Pygoscelis antarctica.

Emperor—Aptenodytes forsteri.

Gentoo—Pygoscelis papua.

King—Aptenodytes patagonicus.

Macaroni—Eudyptes chrysolophus.

Rockhopper—Eudyptes crestatus.

Petrel

Antarctic—Thalassoica antarctica.

Black-bellied Storm—Fregetta tropica.

Blue—Halobaena caerulea.

Gray—Procellaria cinerea.

Great-winged—Pterodroma macroptera.

Kerguelen—Pterodroma brevirostris.

Mottled—Pterodroma inexpectata.

Snow—Pagodroma nivea.

Soft-plumaged—Pterodroma mollis.

South-Georgia Diving—Pelecanoides georgicus.

White-bellied Storm—Fregetta grallaria.

White-chinned—Procellaria aequinoctialis.

White-headed—Pterodroma lessoni.

Wilson's Storm—Oceanites oceanicus.

Pigeon

Cape—Daption capense.

Pintail

South American Yellow-billed—Anas georgica spinicauda.

Prion

Antarctic—Pachyptila desolata.

Narrow-billed—Pachyptila belcheri.

Shag

Blue-eyed—Phalacrocorax atriceps.

Shearwater

Sooty—Puffinus griseus.

Skua

Brown—Catharacta lonnbergi

South Polar—Catharacta maccormicki.

Swallow

Barn—Hirundo rustica.

Sheathbill

American—Chionis alba.

Tern

Antarctic—Sterna vittata.

Arctic—Sterna paradisaea.

§ 670.25 [Amended]

3.In § 670.25, remove the word “rossi” and add, in its place, the word “rossii”.

§ 670.29 [Amended]

4. In § 670.29, add two additional ASPAs at the end of the section as follows:

* * * * *

ASPA 159, Summit of Mt. Melbourne, North Victoria Land.

ASAP 160, Botany Bay, Cape Geology, Victoria Land.

[FR Doc. 01-22533 Filed 9-6-01; 8:45 am]

BILLING CODE 7555-01-U